DEPARTMENT OF TRANSPORTATION

Federal Aviation Administration

14 CFR Part 97

[Docket No. 31365; Amdt. No. 3952]

Standard Instrument Approach Procedures, and Takeoff Minimums and Obstacle Departure Procedures; Miscellaneous Amendments

AGENCY: Federal Aviation Administration (FAA), DOT.

ACTION: Final rule.

SUMMARY: This rule amends, suspends, or removes Standard Instrument Approach Procedures (SIAPs) and associated Takeoff Minimums and Obstacle Departure Procedures for operations at certain airports. These regulatory actions are needed because of the adoption of new or revised criteria, or because of changes occurring in the National Airspace System, such as the commissioning of new navigational facilities, adding new obstacles, or changing air traffic requirements. These changes are designed to provide for the safe and efficient use of the navigable airspace and to promote safe flight operations under instrument flight rules at the affected airports.

DATES: This rule is effective April 19, 2021. The compliance date for each SIAP, associated Takeoff Minimums, and ODP is specified in the amendatory provisions.

The incorporation by reference of certain publications listed in the regulations is approved by the Director of the Federal Register as of April 19, 2021.

ADDRESSES: Availability of matter incorporated by reference in the amendment is as follows:

For Examination

1. U.S. Department of Transportation, Docket Ops-M30, 1200 New Jersey Avenue SE, West Bldg., Ground Floor, Washington, DC, 20590-0001;

2. The FAA Air Traffic Organization Service Area in which the affected airport is located;

3. The office of Aeronautical Information Services, 6500 South MacArthur Blvd., Oklahoma City, OK 73169 or,

4. The National Archives and Records Administration (NARA).

For information on the availability of this material at NARA, email fedreg.legal@nara.gov or go to: https://www.archives.gov/federal-register/cfr/ibr-locations.html.

Availability

All SIAPs and Takeoff Minimums and ODPs are available online free of charge. Visit the National Flight Data Center online at nfdc.faa.gov to register. Additionally, individual SIAP and Takeoff Minimums and ODP copies may be obtained from the FAA Air Traffic Organization Service Area in which the affected airport is located.

FOR FURTHER INFORMATION CONTACT: Thomas J. Nichols, Flight Procedures and Airspace Group, Flight Technologies and Procedures Division, Flight Standards Service, Federal Aviation Administration. Mailing Address: FAA Mike Monroney Aeronautical Center, Flight Procedures and Airspace Group, 6500 South MacArthur Blvd., Registry Bldg. 29 Room 104, Oklahoma City, OK 73169. Telephone: (405) 954-4164.

SUPPLEMENTARY INFORMATION: This rule amends 14 CFR part 97 by amending the referenced SIAPs. The complete regulatory description of each SIAP is listed on the appropriate FAA Form 8260, as modified by the National Flight Data Center (NFDC)/Permanent Notice to Airmen (P-NOTAM), and is incorporated by reference under 5 U.S.C. 552(a), 1 CFR part 51, and 14 CFR 97.20. The large number of SIAPs, their complex nature, and the need for a special format make their verbatim publication in the Federal Register expensive and impractical. Further, airmen do not use the regulatory text of the SIAPs, but refer to their graphic depiction on charts printed by publishers of aeronautical materials. Thus, the advantages of incorporation by reference are realized and publication of the complete description of each SIAP contained on FAA form documents is unnecessary. This amendment provides the affected CFR sections, and specifies the SIAPs and Takeoff Minimums and ODPs with their applicable effective dates. This amendment also identifies the airport and its location, the procedure and the amendment number.

Availability and Summary of Material Incorporated by Reference

The material incorporated by reference is publicly available as listed in the ADDRESSES section.

The material incorporated by reference describes SIAPs, Takeoff Minimums and ODPs as identified in the amendatory language for part 97 of this final rule.

The Rule

This amendment to 14 CFR part 97 is effective upon publication of each separate SIAP and Takeoff Minimums and ODP as amended in the transmittal. For safety and timeliness of change considerations, this amendment incorporates only specific changes contained for each SIAP and Takeoff Minimums and ODP as modified by FDC permanent NOTAMs.

The SIAPs and Takeoff Minimums and ODPs, as modified by FDC permanent NOTAM, and contained in this amendment are based on criteria contained in the U.S. Standard for Terminal Instrument Procedures (TERPS). In developing these changes to SIAPs and Takeoff Minimums and ODPs, the TERPS criteria were applied only to specific conditions existing at the affected airports. All SIAP amendments in this rule have been previously issued by the FAA in a FDC NOTAM as an emergency action of immediate flight safety relating directly to published aeronautical charts.

The circumstances that created the need for these SIAP and Takeoff Minimums and ODP amendments require making them effective in less than 30 days.

Because of the close and immediate relationship between these SIAPs, Takeoff Minimums and ODPs, and safety in air commerce, I find that notice and public procedure under 5 U.S.C. 553(b) are impracticable and contrary to the public interest and, where applicable, under 5 U.S.C. 553(d), good cause exists for making these SIAPs effective in less than 30 days.

The FAA has determined that this regulation only involves an established body of technical regulations for which frequent and routine amendments are necessary to keep them operationally current. It, therefore—(1) is not a “significant regulatory action” under Executive Order 12866; (2) is not a “significant rule” under DOT regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 97

Air Traffic Control, Airports, Incorporation by reference, Navigation (air).

Issued in Washington, DC, on April 2, 2021.
Wade Terrell,
Aviation Safety, Manager, Flight Procedures & Airspace Group, Flight Technologies and Procedures Division.

Adoption of the Amendment

Accordingly, pursuant to the authority delegated to me, Title 14, CFR part 97, (is amended by amending Standard Instrument Approach Procedures and Takeoff Minimums and ODPs, effective at 0901 UTC on the dates specified, as follows:

PART 97—STANDARD INSTRUMENT APPROACH PROCEDURES

1. The authority citation for part 97 continues to read as follows:

Authority: 49 U.S.C. 106(f), 106(g), 40103, 40106, 40113, 40114, 40120, 44502, 44514, 44701, 44719, 44721-44722.

2. Part 97 is amended to read as follows:

By amending: § 97.23 VOR, VOR/DME, VOR or TACAN, and VOR/DME or TACAN; § 97.25 LOC, LOC/DME, LDA, LDA/DME, SDF, SDF/DME; § 97.27 NDB, NDB/DME; § 97.29 ILS, ILS/DME, MLS, MLS/DME, MLS/RNAV; § 97.31 RADAR SIAPs; § 97.33 RNAV SIAPs; and § 97.35 COPTER SIAPs, Identified as follows:

* * * Effective Upon Publication

AIRAC date | State | City | Airport | FDC No. | FDC date | Subject
20-May-21 | MN | Bigfork | Bigfork Muni | 1/0064 | 3/25/21 | NDB RWY 15, Orig-
20-May-21 | OH | Hillsboro | Highland County | 1/0251 | 3/11/21 | RNAV (GPS) RWY 23, Orig-A
20-May-21 | TX | Bonham | Jones Fld | 1/0270 | 3/10/21 | RNAV (GPS) RWY 35, Amdt 1A
20-May-21 | TX | Bonham | Jones Fld | 1/0271 | 3/10/21 | RNAV (GPS) RWY 17, Amdt 2A
20-May-21 | TX | Bonham | Jones Fld | 1/0272 | 3/10/21 | VOR/DME RWY 17, Amdt 1A
20-May-21 | MN | Ely | Ely Muni | 1/0350 | 3/25/21 | RNAV (GPS) RWY 12, Amdt 1B
20-May-21 | MN | Ely | Ely Muni | 1/0351 | 3/25/21 | RNAV (GPS) RWY 30, Amdt 1B
20-May-21 | KS | Salina | Salina Rgnl | 1/0361 | 3/10/21 | ILS OR LOC RWY 35, Amdt 19B
20-May-21 | KS | Salina | Salina Rgnl | 1/0365 | 3/10/21 | RNAV (GPS) RWY 12. Orig
20-May-21 | KS | Salina | Salina Rgnl | 1/0367 | 3/10/21 | RNAV (GPS) RWY 30, Orig
20-May-21 | KS | Salina | Salina Rgnl | 1/0368 | 3/10/21 | RNAV (GPS) RWY 35, Orig
20-May-21 | KS | Salina | Salina Rgnl | 1/0369 | 3/10/21 | RNAV (GPS) RWY 17, Orig
20-May-21 | LA | Bunkie | Bunkie Muni | 1/0370 | 3/12/21 | RNAV (GPS) RWY 36, Orig
20-May-21 | WI | Monroe | Monroe Muni | 1/0404 | 3/29/21 | RNAV (GPS) RWY 12, Orig-A
20-May-21 | WI | Monroe | Monroe Muni | 1/0405 | 3/29/21 | RNAV (GPS) RWY 30, Orig-A
20-May-21 | WI | Monroe | Monroe Muni | 1/0406 | 3/29/21 | VOR/DME RWY 30, Amdt 8A
20-May-21 | TX | George West | Live Oak County | 1/0408 | 3/12/21 | VOR/DME-A, Amdt 2A
20-May-21 | TX | George West | Live Oak County | 1/0409 | 3/12/21 | RNAV (GPS) RWY 13, Orig-A
20-May-21 | LA | Thibodaux | Thibodaux Muni | 1/0427 | 3/12/21 | VOR OR GPS-A, Amdt 1B
20-May-21 | TX | Hebbronville | Jim Hogg County | 1/0435 | 3/12/21 | RNAV (GPS) RWY 13, Orig
20-May-21 | MN | Cloquet | Cloquet Carlton County | 1/0458 | 2/19/21 | RNAV (GPS) RWY 36, Amdt 1B
20-May-21 | MN | Cloquet | Cloquet Carlton County | 1/0459 | 2/19/21 | RNAV (GPS) RWY 18, Orig-B
20-May-21 | TX | Seymour | Seymour Muni | 1/0569 | 3/29/21 | RNAV (GPS) RWY 17, Orig-B
20-May-21 | PA | Shamokin | Northumberland County | 1/0571 | 3/29/21 | RNAV (GPS) RWY 8, Orig-D
20-May-21 | PA | Shamokin | Northumberland County | 1/0572 | 3/29/21 | RNAV (GPS) RWY 26, Orig-C
20-May-21 | MI | Gaylord | Gaylord Rgnl | 1/0580 | 2/19/21 | VOR RWY 27, Amdt 2B
20-May-21 | MI | Gaylord | Gaylord Rgnl | 1/0582 | 2/19/21 | RNAV (GPS) RWY 27, Orig-B
20-May-21 | MI | Gaylord | Gaylord Rgnl | 1/0603 | 2/19/21 | RNAV (GPS) RWY 9, Orig-B
20-May-21 | MI | Gaylord | Gaylord Rgnl | 1/0605 | 2/19/21 | ILS OR LOC RWY 9, Amdt 1A
20-May-21 | PA | Coatesville | Chester County G O Carlson | 1/0613 | 2/22/21 | ILS OR LOC RWY 29, Amdt 7A
20-May-21 | PA | Coatesville | Chester County G O Carlson | 1/0614 | 2/22/21 | RNAV (GPS) RWY 11, Orig-A
20-May-21 | PA | Coatesville | Chester County G O Carlson | 1/0615 | 2/22/21 | RNAV (GPS) RWY 29, Orig-A
20-May-21 | KS | Meade | Meade Muni | 1/0623 | 2/19/21 | RNAV (GPS) RWY 17, Orig-B
20-May-21 | KS | Meade | Meade Muni | 1/0624 | 2/19/21 | RNAV (GPS) RWY 35, Orig-C
20-May-21 | KS | Salina | Salina Rgnl | 1/0658 | 3/29/21 | VOR RWY 17, Amdt 2
20-May-21 | IA | Fort Dodge | Fort Dodge Rgnl | 1/0726 | 3/29/21 | ILS OR LOC RWY 6, Amdt 7C
20-May-21 | IA | Fort Dodge | Fort Dodge Rgnl | 1/0729 | 3/29/21 | RNAV (GPS) RWY 6, Amdt 1A
20-May-21 | IA | Fort Dodge | Fort Dodge Rgnl | 1/0733 | 3/29/21 | RNAV (GPS) RWY 12, Amdt 1A
20-May-21 | IA | Fort Dodge | Fort Dodge Rgnl | 1/0734 | 3/29/21 | RNAV (GPS) RWY 24, Amdt 1B
20-May-21 | IA | Fort Dodge | Fort Dodge Rgnl | 1/0779 | 3/29/21 | RNAV (GPS) RWY 30, Amdt 1A
20-May-21 | IA | Fort Dodge | Fort Dodge Rgnl | 1/0781 | 3/29/21 | VOR RWY 12, Amdt 15
20-May-21 | IA | Fort Dodge | Fort Dodge Rgnl | 1/0783 | 3/29/21 | VOR/DME RWY 30, Amdt 11A
20-May-21 | IN | Goshen | Goshen Muni | 1/0941 | 3/11/21 | ILS OR LOC RWY 27, Amdt 1A
20-May-21 | IN | Goshen | Goshen Muni | 1/0942 | 3/11/21 | RNAV (GPS) RWY 27, Orig-A
20-May-21 | IN | Goshen | Goshen Muni | 1/0943 | 3/11/21 | RNAV (GPS) RWY 9, Orig-A
20-May-21 | IN | Goshen | Goshen Muni | 1/0944 | 3/11/21 | VOR RWY 9, Amdt 12C
20-May-21 | OR | Burns | Burns Muni | 1/1040 | 3/11/21 | RNAV (GPS) RWY 30, Orig-B
20-May-21 | KS | Scott City | Scott City Muni | 1/1198 | 3/12/21 | RNAV (GPS) RWY 17, Orig-A
20-May-21 | KS | Scott City | Scott City Muni | 1/1199 | 3/12/21 | RNAV (GPS) RWY 35, Orig-A
20-May-21 | TX | Plainview | Hale County | 1/1225 | 3/12/21 | RNAV (GPS) RWY 4, Orig-B
20-May-21 | TX | Plainview | Hale County | 1/1226 | 3/12/21 | RNAV (GPS) RWY 22, Orig
20-May-21 | TX | Plainview | Hale County | 1/1227 | 3/12/21 | VOR RWY 4, Amdt 9C
20-May-21 | GA | Thomaston | Thomaston-Upson County | 1/1245 | 2/23/21 | ILS OR LOC RWY 30, Amdt 2B
20-May-21 | GA | Thomaston | Thomaston-Upson County | 1/1246 | 2/23/21 | NDB RWY 30, Amdt 2
20-May-21 | GA | Thomaston | Thomaston-Upson County | 1/1247 | 2/23/21 | RNAV (GPS) RWY 12, Orig
20-May-21 | GA | Thomaston | Thomaston-Upson County | 1/1248 | 2/23/21 | RNAV (GPS) RWY 30, Orig
20-May-21 | MN | Willmar | Willmar Muni-John L Rice Fld | 1/1522 | 3/10/21 | ILS OR LOC RWY 13, Orig-A
20-May-21 | MN | Willmar | Willmar Muni-John L Rice Fld | 1/1523 | 3/10/21 | VOR RWY 31, Orig-B
20-May-21 | MN | Willmar | Willmar Muni-John L Rice Fld | 1/1524 | 3/10/21 | RNAV (GPS) RWY 13, Orig-B
20-May-21 | OK | Oklahoma City | Clarence E Page Muni | 1/1580 | 3/11/21 | RNAV (GPS) RWY 35L, Amdt 2A
20-May-21 | OK | Oklahoma City | Clarence E Page Muni | 1/1581 | 3/11/21 | RNAV (GPS) RWY 17R, Amdt 2A
20-May-21 | LA | Bastrop | Morehouse Meml | 1/1588 | 3/11/21 | RNAV (GPS) RWY 34, Orig-A
20-May-21 | LA | Bastrop | Morehouse Meml | 1/1589 | 3/11/21 | VOR/DME-A, Amdt 9B
20-May-21 | LA | Bastrop | Morehouse Meml | 1/1590 | 3/11/21 | RNAV (GPS) RWY 16, Amdt 1A
20-May-21 | SC | Lake City | Lake City Muni CJ Evans Fld | 1/1595 | 3/11/21 | RNAV (GPS) RWY 1, Orig
20-May-21 | SC | Lake City | Lake City Muni CJ Evans Fld | 1/1596 | 3/11/21 | RNAV (GPS) RWY 19, Orig-A
20-May-21 | NC | Winston Salem | Smith Reynolds | 1/1603 | 3/11/21 | RNAV (GPS) RWY 33, Orig-C
20-May-21 | NC | Winston Salem | Smith Reynolds | 1/1604 | 3/11/21 | RNAV (GPS) RWY 15, Amdt 1C
20-May-21 | NC | Winston Salem | Smith Reynolds | 1/1605 | 3/11/21 | ILS OR LOC RWY 33, Amdt 29D
20-May-21 | OH | Jackson | James A Rhodes | 1/1608 | 3/12/21 | RNAV (GPS) RWY 19, Amdt 1D
20-May-21 | OH | Jackson | James A Rhodes | 1/1609 | 3/12/21 | RNAV (GPS) RWY 1, Amdt 1E
20-May-21 | OH | Jackson | James A Rhodes | 1/1610 | 3/12/21 | VOR/DME-A, Amdt 2C
20-May-21 | WA | Moses Lake | Grant County Intl | 1/1711 | 3/30/21 | ILS OR LOC RWY 32R, Amdt 20D
20-May-21 | WA | Moses Lake | Grant County Intl | 1/1712 | 3/30/21 | NDB RWY 32R, Amdt 17A
20-May-21 | WA | Moses Lake | Grant County Intl | 1/1713 | 3/30/21 | RNAV (GPS) Y RWY 4, Amdt 1B
20-May-21 | WA | Moses Lake | Grant County Intl | 1/1714 | 3/30/21 | RNAV (GPS) Y RWY 22, Amdt 1B
20-May-21 | WA | Moses Lake | Grant County Intl | 1/1715 | 3/30/21 | RNAV (GPS) Y RWY 32R, Amdt 3B
20-May-21 | WA | Moses Lake | Grant County Intl | 1/1716 | 3/30/21 | VOR RWY 4, Amdt 6B
20-May-21 | WA | Moses Lake | Grant County Intl | 1/1717 | 3/30/21 | VOR RWY 22, Amdt 5C
20-May-21 | WA | Moses Lake | Grant County Intl | 1/1718 | 3/30/21 | VOR RWY 32R, Amdt 20B
20-May-21 | WA | Moses Lake | Grant County Intl | 1/1719 | 3/30/21 | VOR 3 RWY 14L, Amdt 1B
20-May-21 | TN | Winchester | Winchester Muni | 1/1747 | 3/30/21 | RNAV (GPS) RWY 36, Orig-B
20-May-21 | TN | Winchester | Winchester Muni | 1/1749 | 3/30/21 | RNAV (GPS) Y RWY 18, Orig-C
20-May-21 | AR | Fort Smith | Fort Smith Rgnl | 1/1821 | 3/29/21 | RADAR-1, Amdt 8D
20-May-21 | AR | Fort Smith | Fort Smith Rgnl | 1/1849 | 3/29/21 | VOR/DME OR TACAN RWY 7, Amdt 11D
20-May-21 | AR | Fort Smith | Fort Smith Rgnl | 1/1850 | 3/29/21 | RNAV (GPS) RWY 25, Amdt 1A
20-May-21 | AR | Fort Smith | Fort Smith Rgnl | 1/1855 | 3/29/21 | RNAV (GPS) RWY 7, Amdt 1A
20-May-21 | AR | Fort Smith | Fort Smith Rgnl | 1/1858 | 3/29/21 | VOR OR TACAN RWY 25, Amdt 20I
20-May-21 | AR | Fort Smith | Fort Smith Rgnl | 1/1860 | 3/29/21 | RNAV (GPS) RWY 1, Amdt 2A
20-May-21 | CA | Hayward | Hayward Exec | 1/1930 | 2/19/21 | LOC/DME RWY 28L, Amdt 3C
20-May-21 | CA | Hayward | Hayward Exec | 1/1933 | 2/19/21 | RNAV (GPS) RWY 28L, Amdt 1C
20-May-21 | CA | Lincoln | Lincoln Rgnl/Karl Harder Fld | 1/1942 | 2/23/21 | RNAV (GPS) RWY 15, Orig-A
20-May-21 | CA | Lincoln | Lincoln Rgnl/Karl Harder Fld | 1/1943 | 2/23/21 | ILS OR LOC RWY 15, Amdt 1A
20-May-21 | SC | Camden | Woodward Fld | 1/2139 | 3/30/21 | VOR/DME-A, Amdt 4
20-May-21 | SC | Camden | Woodward Fld | 1/2146 | 3/30/21 | RNAV (GPS) RWY 24, Orig
20-May-21 | SC | Camden | Woodward Fld | 1/2153 | 3/30/21 | RNAV (GPS) RWY 6, Orig
20-May-21 | NC | Franklin | Macon County | 1/2257 | 3/10/21 | RNAV (GPS)-A, Orig
20-May-21 | TX | Alice | Alice Intl | 1/2272 | 3/10/21 | VOR RWY 31, Amdt 13E
20-May-21 | TX | Alice | Alice Intl | 1/2273 | 3/10/21 | RNAV (GPS) RWY 31, Amdt 1E
20-May-21 | TX | Alice | Alice Intl | 1/2298 | 3/10/21 | LOC/DME RWY 31, Orig-D
20-May-21 | SC | North Myrtle Beach | Grand Strand | 1/2320 | 3/10/21 | VOR RWY 23, Amdt 20
20-May-21 | SC | North Myrtle Beach | Grand Strand | 1/2321 | 3/10/21 | RNAV (GPS) RWY 5, Orig
20-May-21 | SC | North Myrtle Beach | Grand Strand | 1/2323 | 3/10/21 | VOR RWY 5, Amdt 22
20-May-21 | SC | North Myrtle Beach | Grand Strand | 1/2325 | 3/10/21 | RNAV (GPS) RWY 23, Amdt 1A
20-May-21 | NC | Plymouth | Plymouth Muni | 1/2377 | 3/11/21 | RNAV (GPS) RWY 21, Orig-A
20-May-21 | NC | Plymouth | Plymouth Muni | 1/2378 | 3/11/21 | RNAV (GPS) RWY 3, Orig-A
20-May-21 | MD | Westminster | Carroll County Rgnl/Jack B Poage Fld | 1/2381 | 3/12/21 | VOR RWY 34, Amdt 4B
20-May-21 | MD | Westminster | Carroll County Rgnl/Jack B Poage Fld | 1/2382 | 3/12/21 | RNAV (GPS) RWY 34, Amdt 1B
20-May-21 | MD | Westminster | Carroll County Rgnl/Jack B Poage Fld | 1/2383 | 3/12/21 | RNAV (GPS) RWY 16, Amdt 2A
20-May-21 | OR | John Day | Grant County Rgnl/Ogilvie Fld | 1/2388 | 3/11/21 | RNAV (GPS) Y RWY 9, Orig-D
20-May-21 | NV | Tonopah | Tonopah | 1/2749 | 3/11/21 | VOR OR GPS-A, Amdt 3B
20-May-21 | NE | Holdrege | Brewster Fld | 1/2868 | 3/12/21 | RNAV (GPS) RWY 18, Orig
20-May-21 | NE | Holdrege | Brewster Fld | 1/2869 | 3/12/21 | RNAV (GPS) RWY 36, Orig
20-May-21 | GA | Winder | Barrow County | 1/2938 | 3/11/21 | ILS OR LOC RWY 31, Orig-E
20-May-21 | GA | Winder | Barrow County | 1/2939 | 3/11/21 | NDB RWY 31, Amdt 9D
20-May-21 | GA | Winder | Barrow County | 1/2940 | 3/11/21 | RNAV (GPS) RWY 13, Amdt 1B
20-May-21 | GA | Winder | Barrow County | 1/2941 | 3/11/21 | RNAV (GPS) RWY 23, Orig-C
20-May-21 | GA | Winder | Barrow County | 1/2942 | 3/11/21 | RNAV (GPS) RWY 31, Amdt 1D
20-May-21 | MT | Scobey | Scobey | 1/2944 | 3/10/21 | RNAV (GPS) RWY 12, Orig-C
20-May-21 | VA | Culpeper | Culpeper Rgnl | 1/3060 | 2/11/21 | LOC RWY 4, Orig
20-May-21 | VA | Culpeper | Culpeper Rgnl | 1/3061 | 2/11/21 | NDB RWY 4, Orig
20-May-21 | VA | Culpeper | Culpeper Rgnl | 1/3064 | 2/11/21 | VOR-A, Amdt 5
20-May-21 | WI | Park Falls | Park Falls Muni | 1/3065 | 2/11/21 | RNAV (GPS) RWY 36, Orig-C
20-May-21 | WI | Park Falls | Park Falls Muni | 1/3068 | 2/11/21 | RNAV (GPS) RWY 18, Orig-B
20-May-21 | SC | Mount Pleasant | Mt Pleasant Rgnl-Faison Fld | 1/3212 | 2/18/21 | RNAV (GPS) RWY 17, Orig-D
20-May-21 | SC | Mount Pleasant | Mt Pleasant Rgnl-Faison Fld | 1/3213 | 2/18/21 | RNAV (GPS) RWY 35, Orig-E
20-May-21 | SC | Mount Pleasant | Mt Pleasant Rgnl-Faison Fld | 1/3214 | 2/18/21 | VOR/DME-A, Amdt 1B
20-May-21 | WI | Sturgeon Bay | Door County Cherryland | 1/3343 | 3/12/21 | RNAV (GPS) RWY 20, Amdt 1B
20-May-21 | WI | Sturgeon Bay | Door County Cherryland | 1/3348 | 3/12/21 | RNAV (GPS) RWY 2, Amdt 1C
20-May-21 | AL | Andalusia | South Alabama Rgnl At Bill Benton Fld | 1/3351 | 3/10/21 | RNAV (GPS) RWY 11, Amdt 2B
20-May-21 | MN | Pine River | Pine River Rgnl | 1/3352 | 3/18/21 | RNAV (GPS) RWY 34, Orig
20-May-21 | AL | Andalusia | South Alabama Rgnl At Bill Benton Fld | 1/3353 | 3/10/21 | RNAV (GPS) RWY 29, Amdt 2B
20-May-21 | MN | Glenwood | Glenwood Muni | 1/3355 | 3/25/21 | RNAV (GPS) RWY 15, Orig-B
20-May-21 | MN | Glenwood | Glenwood Muni | 1/3356 | 3/25/21 | RNAV (GPS) RWY 33, Amdt 1B
20-May-21 | MN | Glenwood | Glenwood Muni | 1/3357 | 3/25/21 | VOR RWY 33, Amdt 2C
20-May-21 | NY | Massena | Massena Intl-Richards Fld | 1/3364 | 3/18/21 | ILS OR LOC RWY 5, Amdt 3B
20-May-21 | NY | Massena | Massena Intl-Richards Fld | 1/3365 | 3/18/21 | RNAV (GPS) RWY 5, Amdt 2B
20-May-21 | TX | Amarillo | Tradewind | 1/3382 | 3/12/21 | RNAV (GPS) RWY 35, Orig-A
20-May-21 | FL | Gainesville | Gainesville Rgnl | 1/3386 | 3/23/21 | RNAV (GPS) RWY 11, Amdt 1B
20-May-21 | FL | Gainesville | Gainesville Rgnl | 1/3387 | 3/23/21 | RNAV (GPS) RWY 25, Amdt 1B
20-May-21 | FL | Gainesville | Gainesville Rgnl | 1/3388 | 3/23/21 | RNAV (GPS) RWY 29, Amdt 1B
20-May-21 | FL | Gainesville | Gainesville Rgnl | 1/3389 | 3/23/21 | RNAV (GPS) RWY 7, Amdt 1A
20-May-21 | AZ | Chandler | Chandler Muni | 1/3445 | 3/25/21 | RNAV (GPS) RWY 4R, Orig-A
20-May-21 | AZ | Chandler | Chandler Muni | 1/3446 | 3/25/21 | VOR RWY 4R, Orig-A
20-May-21 | AL | Russellville | Bill Pugh Fld | 1/3511 | 3/25/21 | RNAV (GPS) RWY 2, Orig-C
20-May-21 | AL | Russellville | Bill Pugh Fld | 1/3513 | 3/25/21 | RNAV (GPS) RWY 20, Orig-B
20-May-21 | WA | Moses Lake | Grant County Intl | 1/3537 | 3/30/21 | RNAV (GPS) Y RWY 14L, Amdt 1B
20-May-21 | WA | Moses Lake | Grant County Intl | 1/3546 | 3/25/21 | VOR 1 RWY 14L, Amdt 1B
20-May-21 | WV | Huntington | Tri-State/Milton J Ferguson Fld | 1/3598 | 3/18/21 | RNAV (GPS) RWY 12, Amdt 3B
20-May-21 | MN | Bigfork | Bigfork Muni | 1/3742 | 3/25/21 | RNAV (GPS) RWY 15, Orig-C
20-May-21 | MN | Bigfork | Bigfork Muni | 1/3743 | 3/25/21 | RNAV (GPS) RWY 33, Orig-E
20-May-21 | AR | Ozark | Ozark-Franklin County | 1/3980 | 3/12/21 | RNAV (GPS) RWY 4, Orig-A
20-May-21 | PA | Reading | Reading Rgnl/Carl A Spaatz Fld | 1/4000 | 2/23/21 | ILS OR LOC RWY 36, Amdt 30C
20-May-21 | PA | Reading | Reading Rgnl/Carl A Spaatz Fld | 1/4001 | 2/23/21 | RNAV (GPS) RWY 13, Orig-A
20-May-21 | PA | Reading | Reading Rgnl/Carl A Spaatz Fld | 1/4002 | 2/23/21 | RNAV (GPS) RWY 18, Orig-A
20-May-21 | PA | Reading | Reading Rgnl/Carl A Spaatz Fld | 1/4003 | 2/23/21 | RNAV (GPS) RWY 36, Orig-B
20-May-21 | NC | Reidsville | Rockingham County NC Shiloh | 1/4037 | 2/17/21 | RNAV (GPS) RWY 13, Orig-A
20-May-21 | NC | Reidsville | Rockingham County NC Shiloh | 1/4039 | 2/17/21 | VOR/DME-A, Amdt 9B
20-May-21 | NE | Hartington | Hartington Muni/Bud Becker Fld | 1/4179 | 3/12/21 | VOR/DME RWY 31, Orig-C
20-May-21 | AL | Florala | Florala Muni | 1/4193 | 1/21/21 | RNAV (GPS) RWY 22, Amdt 1A
20-May-21 | MN | Fergus Falls | Fergus Falls Muni-Einar Mickelson Fld | 1/4359 | 3/18/21 | ILS OR LOC RWY 31, Amdt 2
20-May-21 | MN | Fergus Falls | Fergus Falls Muni-Einar Mickelson Fld | 1/4362 | 3/18/21 | RNAV (GPS) RWY 35, Orig
20-May-21 | PA | Gettysburg | Gettysburg Rgnl | 1/4437 | 3/12/21 | RNAV (GPS)-A, Orig
20-May-21 | NC | Reidsville | Rockingham County NC Shiloh | 1/4504 | 2/17/21 | RNAV (GPS) RWY 31, Orig-B
20-May-21 | NC | Reidsville | Rockingham County NC Shiloh | 1/4507 | 2/17/21 | NDB RWY 31, Amdt 5B
20-May-21 | MN | Fergus Falls | Fergus Falls Muni-Einar Mickelson Fld | 1/4510 | 3/18/21 | RNAV (GPS) RWY 13, Orig-A
20-May-21 | MN | Fergus Falls | Fergus Falls Muni-Einar Mickelson Fld | 1/4512 | 3/18/21 | RNAV (GPS) RWY 31, Orig-A
20-May-21 | MN | Fergus Falls | Fergus Falls Muni-Einar Mickelson Fld | 1/4514 | 3/18/21 | VOR RWY 13, Amdt 1
20-May-21 | AR | El Dorado | South Arkansas Rgnl At Goodwin Fld | 1/4668 | 3/17/21 | ILS OR LOC RWY 22, Amdt 2E
20-May-21 | AR | El Dorado | South Arkansas Rgnl At Goodwin Fld | 1/4669 | 3/17/21 | VOR/DME RWY 4, Amdt 10C
20-May-21 | AR | El Dorado | South Arkansas Rgnl At Goodwin Fld | 1/4670 | 3/17/21 | RNAV (GPS) RWY 22, Orig-C
20-May-21 | AR | El Dorado | South Arkansas Rgnl At Goodwin Fld | 1/4671 | 3/17/21 | RNAV (GPS) RWY 4, Orig-C
20-May-21 | SD | Gregory | Gregory Muni—Flynn Fld | 1/5046 | 3/19/21 | RNAV (GPS) RWY 31, Orig-A
20-May-21 | GA | Cairo | Cairo-Grady County | 1/5324 | 1/22/21 | RNAV (GPS) RWY 31, Amdt 1A
20-May-21 | GA | Cairo | Cairo-Grady County | 1/5325 | 1/22/21 | RNAV (GPS) RWY 13, Amdt 1B
20-May-21 | SC | Chester | Chester Catawba Rgnl | 1/5337 | 1/22/21 | NDB RWY 35, Amdt 2
20-May-21 | SC | Chester | Chester Catawba Rgnl | 1/5338 | 1/22/21 | RNAV (GPS) RWY 17, Amdt 1
20-May-21 | SC | Chester | Chester Catawba Rgnl | 1/5339 | 1/22/21 | RNAV (GPS) RWY 35, Amdt 1
20-May-21 | KY | Henderson | Henderson City-County | 1/5360 | 3/17/21 | VOR-A, Amdt 10
20-May-21 | AZ | Kingman | Kingman | 1/5676 | 3/19/21 | VOR/DME RWY 21, Amdt 7C
20-May-21 | AZ | Kingman | Kingman | 1/5677 | 3/19/21 | RNAV (GPS) RWY 3, Orig-B
20-May-21 | AZ | Kingman | Kingman | 1/5678 | 3/19/21 | RNAV (GPS) Y RWY 21, Orig-B
20-May-21 | AL | Fairhope | H L Sonny Callahan | 1/5679 | 3/19/21 | VOR/DME-A, Amdt 7
20-May-21 | AL | Fairhope | H L Sonny Callahan | 1/5680 | 3/19/21 | RNAV (GPS) RWY 19, Amdt 2A
20-May-21 | AL | Fairhope | H L Sonny Callahan | 1/5684 | 3/19/21 | RNAV (GPS) RWY 1, Amdt 2A
20-May-21 | WI | Janesville | Southern Wisconsin Rgnl | 1/5685 | 3/19/21 | RNAV (GPS) RWY 14, Amdt 1A
20-May-21 | WI | Janesville | Southern Wisconsin Rgnl | 1/5686 | 3/19/21 | RNAV (GPS) RWY 4, Amdt 1
20-May-21 | WI | Janesville | Southern Wisconsin Rgnl | 1/5687 | 3/19/21 | ILS OR LOC RWY 32, Amdt 1A
20-May-21 | WI | Janesville | Southern Wisconsin Rgnl | 1/5688 | 3/19/21 | RNAV (GPS) RWY 32, Orig-B
20-May-21 | WI | Janesville | Southern Wisconsin Rgnl | 1/5694 | 3/19/21 | RNAV (GPS) RWY 22, Amdt 1
20-May-21 | WI | Janesville | Southern Wisconsin Rgnl | 1/5695 | 3/19/21 | ILS OR LOC RWY 4, Amdt 12A
20-May-21 | OK | Henryetta | Henryetta Muni | 1/5717 | 3/19/21 | RNAV (GPS) RWY 36, Orig-C
20-May-21 | TX | Paris | Cox Fld | 1/6150 | 3/19/21 | VOR RWY 35, Amdt 2A
20-May-21 | TX | Paris | Cox Fld | 1/6151 | 3/19/21 | RNAV (GPS) RWY 35, Orig
20-May-21 | TX | Paris | Cox Fld | 1/6152 | 3/19/21 | RNAV (GPS) RWY 17, Orig
20-May-21 | KS | Emporia | Emporia Muni | 1/6203 | 3/18/21 | RNAV (GPS) RWY 1, Orig-A
20-May-21 | KS | Emporia | Emporia Muni | 1/6205 | 3/18/21 | RNAV (GPS) RWY 19, Orig-A
20-May-21 | KS | Emporia | Emporia Muni | 1/6206 | 3/18/21 | VOR-A, Amdt 14A
20-May-21 | NC | Edenton | Northeastern Rgnl | 1/6488 | 3/26/21 | RNAV (GPS) RWY 19, Amdt 2B
20-May-21 | NC | Edenton | Northeastern Rgnl | 1/6489 | 3/26/21 | ILS OR LOC RWY 19, Orig-C
20-May-21 | NY | Dansville | Dansville Muni | 1/6738 | 2/22/21 | RNAV (GPS) RWY 14, Orig-B
20-May-21 | NY | Dansville | Dansville Muni | 1/6739 | 2/22/21 | RNAV (GPS)-A, Orig
20-May-21 | PR | Mayaguez | Eugenio Maria De Hostos | 1/6848 | 3/30/21 | VOR RWY 9, Amdt 10A
20-May-21 | PR | Mayaguez | Eugenio Maria De Hostos | 1/6855 | 3/30/21 | RNAV (GPS) RWY 9, Orig-B
20-May-21 | NC | Lexington | Davidson County | 1/7305 | 3/19/21 | ILS OR LOC RWY 6, Amdt 1C
20-May-21 | NC | Lexington | Davidson County | 1/7306 | 3/19/21 | RNAV (GPS) RWY 24, Orig-A
20-May-21 | NC | Lexington | Davidson County | 1/7307 | 3/19/21 | RNAV (GPS) RWY 6, Orig-A
20-May-21 | NC | Currituck | Currituck County Rgnl | 1/7407 | 3/26/21 | VOR/DME-A, Amdt 1
20-May-21 | NC | Currituck | Currituck County Rgnl | 1/7409 | 3/26/21 | RNAV (GPS) RWY 23, Orig-B
20-May-21 | NC | Currituck | Currituck County Rgnl | 1/7413 | 3/26/21 | RNAV (GPS) RWY 5, Orig
20-May-21 | MS | Tunica | Tunica Muni | 1/7503 | 3/10/21 | RNAV (GPS) RWY 35, Amdt 2A
20-May-21 | MS | Tunica | Tunica Muni | 1/7504 | 3/10/21 | RNAV (GPS) RWY 17, Amdt 3A
20-May-21 | MS | Tunica | Tunica Muni | 1/7505 | 3/10/21 | ILS OR LOC RWY 35, Amdt 1
20-May-21 | TN | Dyersburg | Dyersburg Rgnl | 1/7753 | 2/22/21 | RNAV (GPS) RWY 4, Amdt 2C
20-May-21 | TN | Dyersburg | Dyersburg Rgnl | 1/7754 | 2/22/21 | VOR-A, Amdt 18A
20-May-21 | TN | Dyersburg | Dyersburg Rgnl | 1/7755 | 2/22/21 | RNAV (GPS) RWY 22, Amdt 1B
20-May-21 | MN | Alexandria | Chandler Fld | 1/7812 | 2/19/21 | RNAV (GPS) RWY 31, Amdt 1
20-May-21 | MN | Alexandria | Chandler Fld | 1/7813 | 2/19/21 | VOR RWY 22, Amdt 15A
20-May-21 | MN | Alexandria | Chandler Fld | 1/7814 | 2/19/21 | ILS OR LOC RWY 31, Orig-D
20-May-21 | TX | Stephenville | Stephenville Clark Rgnl | 1/7893 | 3/25/21 | RNAV (GPS) RWY 14, Orig-A
20-May-21 | TX | Stephenville | Stephenville Clark Rgnl | 1/7894 | 3/25/21 | RNAV (GPS) RWY 32, Orig-A
20-May-21 | MI | Dowagiac | Dowagiac Muni | 1/8248 | 3/11/21 | RNAV (GPS) RWY 9, Orig
20-May-21 | MI | Dowagiac | Dowagiac Muni | 1/8249 | 3/11/21 | RNAV (GPS) RWY 27, Orig
20-May-21 | WY | Worland | Worland Muni | 1/8477 | 3/23/21 | RNAV (GPS) RWY 16, Orig-B
20-May-21 | WY | Worland | Worland Muni | 1/8478 | 3/23/21 | RNAV (GPS) RWY 34, Orig-B
20-May-21 | WY | Worland | Worland Muni | 1/8479 | 3/23/21 | VOR RWY 16, Amdt 6B
20-May-21 | MT | Glendive | Dawson Community | 1/8553 | 1/29/21 | RNAV (GPS) RWY 12, Orig-B
20-May-21 | MT | Glendive | Dawson Community | 1/8554 | 1/29/21 | RNAV (GPS) RWY 30, Orig-B
20-May-21 | GA | Bainbridge | Decatur County Industrial Air Park | 1/8590 | 2/22/21 | ILS OR LOC RWY 27, Orig-A
20-May-21 | GA | Bainbridge | Decatur County Industrial Air Park | 1/8595 | 2/22/21 | VOR-A, Amdt 4
20-May-21 | GA | Bainbridge | Decatur County Industrial Air Park | 1/8596 | 2/22/21 | RNAV (GPS) RWY 27, Amdt 1
20-May-21 | GA | Bainbridge | Decatur County Industrial Air Park | 1/8597 | 2/22/21 | RNAV (GPS) RWY 9, Amdt 1
20-May-21 | KS | Salina | Salina Rgnl | 1/9485 | 3/3/21 | NDB RWY 35, Amdt 17B
20-May-21 | NC | Clinton | Clinton-Sampson County | 1/9814 | 3/25/21 | RNAV (GPS) RWY 6, Amdt 2B
20-May-21 | NC | Clinton | Clinton-Sampson County | 1/9815 | 3/25/21 | RNAV (GPS) Y RWY 24, Amdt 1B
20-May-21 | NC | Clinton | Clinton-Sampson County | 1/9816 | 3/25/21 | LOC RWY 6, Amdt 3B
20-May-21 | NC | Clinton | Clinton-Sampson County | 1/9817 | 3/25/21 | VOR/DME-A, Amdt 6A

[FR Doc. 2021-07849 Filed 4-16-21; 8:45 am]

BILLING CODE 4910-13-P